DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 10, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Farm Loan Program—Inventory Property Management.

OMB Control Number: 0560-0234.

Summary of Collection: The Farm Loan Program (FLP) provides supervised credit in the form of loans to family farmers to purchase inventory property (real estate and equipment) and finance the lease or purchase amount.

Need and Use of the Information: Information collections are submitted by applicants to the local agency office where their business is headquartered. The information is necessary to thoroughly evaluate an applicant's request to purchase inventory property and is used by FLP to determine an applicant's eligibility to lease or purchase inventory property and to ensure payment of the lease or purchase amount. Failure to collect the information would result not complying with congressional mandates.

Description of Respondents: Business or other for-profit; Farms.

Number of Respondents: 160.

Frequency of Responses: Reporting: On occasion; Annually.

Total Burden Hours: 90.

Ruth Brown,
Departmental Information Collection Clearance Officer.

[FR Doc. 2023-12268 Filed 6-7-23; 8:45 am]

BILLING CODE 3410-05-P